DEPARTMENT OF DEFENSE

Office of the Secretary

Establishment of the Defense Legal Policy Board

AGENCY: Department of Defense, DoD.

ACTION: Establishment of Federal Advisory Committee.

SUMMARY: Under the provisions of the Federal Advisory Committee Act of 1972 (5 U.S.C. Appendix), the Government in the Sunshine Act of 1976 (5 U.S.C. 552b), and 41 CFR 102-102-3.50(d) (agency authority), the Department of Defense gives notice it is establishing the Defense Legal Policy Board (hereafter referred to as “the Board”).

The Board is a discretionary federal advisory committee that shall provide the Secretary of Defense and the Deputy Secretary of Defense independent, informed advice, opinions, and recommendations concerning matters referred to the Board relating to legal and related legal policy matters within the Department of Defense.

The Board, at the direction of the Secretary of Defense, the Deputy Secretary of Defense, or the General Counsel of the Department of Defense, and according to DoD policy, shall examine and advise on legal and related legal policy matters within DoD, the achievement of DoD policy goals through legislation and regulations, and other assigned matters. In carrying out its duties, the Board shall consider, as appropriate:

a. Issues and policies relating to legal and related matters;

b. The interplay between laws and regulations, on the one hand, and the achievement of policy goals, on the other;

c. Identifying and evaluating the process for compliance with such laws and regulations;

d. Proposing necessary revisions to the Department's policy goals, and to laws, regulations or procedures intended to achieve such goals; and

e. Any other research and analysis of topics raised by the Secretary of Defense, the Deputy Secretary of Defense, or the General Counsel of the Department of Defense.

The Secretary of Defense, the Deputy Secretary of Defense, or the General Counsel of the Department of Defense may act upon the Board's advice and recommendations. The Board shall be composed of not more than 15 members, who have distinguished backgrounds in law, investigations, military command, governmental organizations, or related fields.

Board members appointed by the Secretary of Defense, who are not full-time or permanent part-time federal officers or employees, shall be appointed to serve as experts and consultants under the authority of 5 U.S.C. 3109, and to serve as special government employees.

Board members, with the approval of the Secretary of Defense, may serve a term of service on the Board of two years; however, no member, unless authorized by the Secretary of Defense, shall serve more than two consecutive terms of service on the Board. Regardless of the individual's approved term of service, all appointments to the Board shall be renewed on an annual basis.

The Secretary of Defense shall select and appoint the Board's chairperson from the total membership. With the exception of travel and per diem for official travel, Board members shall serve without compensation.

Board members are appointed to provide advice on behalf of the government on the basis of their best judgment without representing any particular point of view and in a manner that is free from conflict of interest.

The Chairpersons of the Defense Business Board, the Defense Health Board, the Defense Policy Board, and the Defense Science Board shall serve as non-voting ex officio members of the Board. These ex officio appointments do not count toward the Board's total membership. The Department, when necessary, and consistent with the Board's mission and DoD policies and procedures, may establish subcommittees, task groups, or working groups deemed necessary to support the Board.

These subcommittees, task groups, or working groups shall operate under the provisions of the FACA, the Government in the Sunshine Act of 1976, other governing Federal statutes and regulations, and governing DoD policies and procedures, including 41 CFR 102-3.35 and DoD Instruction 5105.04, sections E2.22, E3.2.2, and E3.12.

Such subcommittees, task groups, or working groups shall not work independently of the chartered Board, and shall report all their recommendations and advice to the Board for full deliberation and discussion. Subcommittees have no authority to make decisions on behalf of the chartered Board; nor can any subcommittee or its members update or report directly to the Department of Defense or any Federal officers or employees.

All subcommittee members shall be appointed in the same manner as the Board members; that is, the Secretary of Defense shall appoint subcommittee members even if the member in question is already a Board member. Subcommittee members, with the approval of the Secretary of Defense, may serve a term of service on the subcommittee of two years; however, no member shall serve more than two consecutive terms of service on the subcommittee.

Subcommittee members, if not full-time or part-time government employees, shall be appointed to serve as experts and consultants under the authority of 5 U.S.C. 3109, and to serve as special government employees, whose appointments must be renewed on an annual basis. With the exception of travel and per diem for official travel, subcommittee members shall serve without compensation.

FOR FURTHER INFORMATION CONTACT: Jim Freeman, Advisory Committee Management Officer for the Department of Defense, 703-692-5952.

SUPPLEMENTARY INFORMATION: The Board shall meet at the call of the Board's Designated Federal Officer or Alternate Designated Federal Officer, in consultation with the Chairperson and the General Counsel of the Department of Defense. The estimated number of Board meetings is two per year.

In addition, the Designated Federal Officer is required to be in attendance at all Board and subcommittee meetings for the entire duration of each and every meeting; however, in the absence of the Designated Federal Officer, the Alternate Designated Federal Officer shall attend the entire duration of the Board or subcommittee meeting.

Pursuant to 41 CFR 102-3.105(j) and 102-3.140, the public or interested organizations may submit written statements to the Defense Legal Policy Board's membership about the Board's mission and functions. Written statements may be submitted at any time or in response to the stated agenda of planned meeting of Defense Legal Policy Board.

All written statements shall be submitted to the Designated Federal Officer for the Defense Legal Policy Board, and this individual will ensure that the written statements are provided to the membership for their consideration. Once the Board's charter has been filed contact information for the Defense Legal Policy Board's Designated Federal Officer can be obtained from the GSA's FACA Database— https://www.fido.gov/facadatabase/public.asp.

The Designated Federal Officer, pursuant to 41 CFR 102-3.150, will announce planned meetings of the Defense Legal Policy Board. The Designated Federal Officer, at that time, may provide additional guidance on the submission of written statements that are in response to the stated agenda for the planned meeting in question.

Dated: April 2, 2012.
Aaron Siegel,
Alternate OSD Federal Register Liaison Officer, Department of Defense.

[FR Doc. 2012-8251 Filed 4-5-12; 8:45 am]

BILLING CODE 5001-06-P